DEPARTMENT OF COMMERCE

National Oceanic and Atmospheric Administration

RIN 0648-XD242

Pacific Fishery Management Council; Public Meeting

AGENCY: National Marine Fisheries Service (NMFS), National Oceanic and Atmospheric Administration (NOAA), Commerce.

ACTION: Notice of a public meeting.

SUMMARY: The Pacific Fishery Management Council's (Pacific Council) Ad Hoc Trawl Groundfish Electronic Monitoring Technical Advisory Committee and Groundfish Electronic Monitoring Policy Advisory Committee (GEM Committees) will hold a joint work session, which is open to the public.

DATES: The work session will be held May 7 and 8, 2014, from 9 a.m. until the earlier of 5 p.m. or when business for each day has been completed.

ADDRESSES: The work session will be held at the DoubleTree by Hilton Seattle Airport, 18740 International Blvd., Seattle, WA 97188, telephone: (206) 246-8600.

Council Address: Pacific Council, 7700 NE Ambassador Place, Suite 101, Portland, OR 97220-1384.

FOR FURTHER INFORMATION CONTACT: Mr. Brett Wiedoff, Staff Officer, Pacific Council; telephone: (503) 820-2280.

SUPPLEMENTARY INFORMATION: The GEM Committees will hold a joint work session May 7 and 8, in Seattle, WA, to discuss development of an impact analysis for the Pacific Council's adopted alternatives for a potential electronic monitoring program currently being developed for the Pacific Coast Groundfish limited Entry Trawl Fishery, and any other results from the April Pacific Fishery Management Council meeting. No management actions will be decided at this work session. The work session will include review and discussion of the Council's adopted alternatives and other reports.

Although non-emergency issues not contained in the meeting agenda may come before the GEM Committees for discussion, those issues may not be the subject of formal action during this meeting. The work session will be restricted to those issues specifically listed in this notice and any issues arising after publication of this notice that require emergency action under section 305(c) of the Magnuson-Stevens Fishery Conservation and Management Act, provided the public has been notified of the GEM committees' intent to take final action to address the emergency.

A meeting report will be prepared for consideration by the Pacific Council at its June 2014 meeting in Garden Grove, CA.

Special Accommodations

This meeting is physically accessible to people with disabilities. Requests for sign language interpretation or other auxiliary aids should be directed to Mr. Kris Kleinschmidt at (503) 820-2280 at least 5 days prior to the meeting date.

Dated: April 16, 2014.
Tracey L. Thompson,
Acting Deputy Director, Office of Sustainable Fisheries, National Marine Fisheries Service.

[FR Doc. 2014-09002 Filed 4-18-14; 8:45 am]

BILLING CODE 3510-22-P